DEPARTMENT OF TRANSPORTATION

Federal Transit Administration

[Docket No. FTA-2014-0017]

Research, Technical Assistance, and Training Programs: Application Instructions and Program Management Guidelines

AGENCY: Federal Transit Administration, DOT.

ACTION: Notice of availability of final circular.

SUMMARY: The Federal Transit Administration (FTA) has placed in the docket and on its Web site, guidance in the form of an updated circular to assist applicants and recipients in implementing research, development, demonstration, and deployment projects, technical assistance projects, standards development projects, and human resources and training projects. The purpose of this circular is to provide FTA recipients updated instructions and guidance on application procedures and project management responsibilities. The revisions to FTA Circular 6100.1D are a result of changes made to FTA's Research, Development, Demonstration, and Deployment Program (Section 5312), its Technical Assistance and Standards Development Program (Section 5314), and its Human Resources and Training Program (Section 5322) as authorized or amended by the Moving Ahead for Progress in the 21st Century Act (MAP-21), Public Law 112-141.

DATES: Effective Date: The final circular becomes effective May 11, 2015.

FOR FURTHER INFORMATION CONTACT: For program questions contact Mackenzie Thiessen, Office of Research, Demonstration, and Innovation, phone: (202) 366-0290 or email: mackenzie.thiessen@dot.gov. For legal questions, please contact Linda Sorkin, Office of Chief Counsel, phone: 202-366-0959 or email: linda.sorkin@dot.gov.

SUPPLEMENTARY INFORMATION:

Table of Contents

I. Overview

II. Chapter-by-Chapter Analysis

A. Chapter I—Introduction and Background

B. Chapter II—Program Overview

C. Chapter III—Application Instructions

D. Chapter IV—Project Administration

E. Chapter V—Financial Management

F. Chapter VI—FTA Oversight

G. Appendices

I. Overview

This circular updates FTA Circular 6100.1D, “Research, Technical Assistance and Training Programs: Application Instructions and Program Management Guidelines,” last revised in 2011, in order to incorporate changes in the MAP-21. MAP-21 has made a number of changes to FTA's research, technical assistance, human resources, and training programs. This circular reflects these updates to Federal law, includes policy determinations, clarifies FTA's requirements and processes, and restructures FTA Circular 6100.1D for clarity and ease of use.

On August 13, 2014, FTA issued a notice of availability of proposed FTA Circular 6100.1E in the Federal Register (78 FR 47514) and requested public comment. The comment period closed on October 14, 2014. Four non-profit organizations and one trade association responded to FTA's notice. A combination of three non-profits sent a single combined response with comments, and one non-profit organization sent separate comments. The trade association stated that it had “no substantive comments or recommended changes.” This notice addresses the comments received.

In addition to the MAP-21 revisions addressed above and outlined below, this circular updates the organization and wording of the previous circular to improve clarity and consistency with FTA's other circulars and to reflect other changes in the law.

Notably, the Office of Management and Budget (OMB) released its final guidance, “Uniform Administrative Requirements, Cost Principles, and Audit Requirements for Federal Awards,” 2 CFR part 200, on December 26, 2013. The U.S. Department of Transportation (U.S. DOT) is implementing the new OMB requirements through a new Common Rule, U.S. DOT regulations, “Uniform Administrative Requirements, Cost Principles, and Audit Requirements for Federal Awards,” 2 CFR part 1201. These U.S. DOT regulations (Common Rule) supersede and apply in lieu of U.S. DOT's previous Common Rules, former 49 CFR parts 18 and 19, and the Federal Cost Principles Circulars, former 2 CFR parts 220, 225, and 230. The requirements of former 49 CFR parts 18 and 19, and the Federal Cost Principles Circulars, former 2 CFR parts 220, 225, and 230, apply to FTA Grants and Cooperative Agreements and Amendments thereto awarded before December 26, 2014, to the extent applicable. The requirements of the new U.S. DOT regulations at 2 CFR part 1201 apply to FTA Grants and Cooperative Agreements and Amendments awarded on or after December 26, 2014 to any FTA Grants and Cooperative Agreements to the extent applicable.

This document does not include the revised circular; however, an electronic version is available on FTA's Web site, at www.fta.dot.gov. Paper copies may be obtained by contacting FTA's Administrative Services Help Desk, at (202) 366-4865.

II. Chapter-by-Chapter Analysis

A. Chapter I: Introduction and Background

This chapter provides a general introduction to FTA that is included in all new and revised program circulars for the orientation of readers new to FTA programs.

FTA did not receive any substantive comments on this chapter.

B. Chapter II: Program Overview

As in FTA Circular 6100.1D, Chapter II of FTA Circular 6100.1E provides an overview of FTA's research programs. Chapter II is divided into four sections. As proposed, we have moved or amended some of the content to reflect program changes and to improve the organization and readability of this circular.

This chapter covers various programs and their statutory authorities, including:

1. The research, development, demonstration, deployment, innovation, evaluation, and low or no emissions programs authorized by 49 U.S.C. 5312,

2. The transit cooperative research program authorized by 49 U.S.C. 5313,

3. The technical assistance and standards development program authorized by 49 U.S.C. 5314, and

4. The human resources program, innovative workforce development program, and the National Transit Institute (NTI) program authorized by 49 U.S.C. 5322.

Repealed Programs: MAP-21 repealed a number of public transportation programs authorized under the previous authorizing legislation. Funds that were authorized under these programs remain available for obligation in a Grant, Cooperative Agreement, or Other Agreement until the applicable statutory period of availability expires, or until the funds are fully expended, rescinded by Congress, or otherwise reallocated. Entities that are awarded FY 2012 or a previous fiscal year funding should check with their FTA Program Manager for the requirements that accompany that funding.

This chapter clarifies the civil rights requirements with which the Recipient must when receiving Federal assistance. As proposed, we have reorganized the content, although the content remains substantially similar to FTA Circular 6100.1D.

As in FTA Circular 6100.1D, this chapter also points out that FTA recipients must comply with all applicable Federal laws, regulations, and directives unless FTA determines otherwise in writing. We also added a hyperlink to sample Master Agreements on FTA's Web site.

The FTA received comments recommending that FTA provide funding for projects that support women employed or seeking employment in skilled trades. The FTA also received comments recommending that FTA use some of its resources for projects to support its recipients' efforts to integrate transportation, housing, infrastructure, and disaster resiliency. Although Federal law authorizes FTA to consider support for women in trades and efforts to integrate transportation, housing, infrastructure, and disaster resiliency, FTA cautions that its resources are limited and that it may not be able to undertake the specific programs to the extent commenters have recommended. Nevertheless, FTA encourages interested parties to check FTA's notices of funding availability for programs of interest to them.

The FTA did not receive any other substantive comments on this chapter.

C. Chapter III: Application Instructions

This chapter describes the processes and procedures that must be followed in submitting applications to FTA.

The following changes have been made:

1. This chapter now includes an “Agreement Life Cycle,” section, listing the stages in the life cycle of an application for Federal assistance to highlight the following matters: implementation, management and oversight of activities supported by the Agreement, period of performance completed, final reports, independent evaluation, and other reports delivered to FTA, excess equipment and property acquired with Federal assistance and disposed of, and the final Federal Financial Report, budget revision, and actual milestones accomplished recorded in FTA's electronic award and management system,

2. The FTA has deleted the former section on Central Contractor Registration and replaced it with requirements to register in the System for Award Management (SAM) and to review and update SAM information at least annually during the life of the Agreement,

3. The FTA has made the following changes to its proposal and pre-application procedures:

a. The FTA has substituted the term “project narrative” for the former term “white paper,” and

b. The FTA has increased the size limitation for competitive proposals from 5 to 15 pages,

4. The FTA has made several changes to its formal application procedures:

a. The FTA has deleted the former reference to scope code 70 for projects undertaken by universities as this code is rarely used. Likewise, we have deleted the “University Budget Example.” Using scope code 55 for most research-type projects will facilitate retrieving aggregate information about such projects from the electronic award and management system regardless of the type of entity performing the work,

b. The FTA deleted the requirement for a literature review as inapplicable to most projects FTA has been funding under the programs covered by this circular. If FTA deems a literature search is essential to a research project authorized by Section 5312(b), the solicitation will require the review,

c. The FTA has added this section explaining what to do if an applicant is located in a State that does not have a single point of contact for Intergovernmental Review,

d. The FTA has deleted the option of submitting documents to FTA on paper (hard copy) to reflect FTA's commitment to electronic award and management for all recipients, because there should be few, if any, instances when a recipient is unable to submit certifications electronically,

e. Since typical projects covered by this circular would not require a formal environmental impact statement (EIS), FTA has updated, clarified and moved material in the previous environmental discussion, as proposed, and

f. The FTA has edited the former version describing Davis-Bacon Act requirements for clarification without substantive change,

5. The FTA has added a discussion of peer review and independent evaluation to implement a new MAP-21 statutory requirement for a comprehensive evaluation of the success or failure of projects funded under 49 U.S.C. 5312(d),

6. The FTA has deleted the public hearing requirement, formerly in FTA Circular 5010.1D, because that requirement was repealed by MAP-21,

7. The FTA has revised the cost sharing provisions because MAP-21 requires a 20 percent local share for some projects, see 49 U.S.C. 5312(f) and 5314(d); MAP-21 also requires a 50 percent local share for Section 5322(a) and (b) projects, see 49 U.S.C. 5322(c),

8. The FTA has added new information regarding possible uses of program income when authorized by law, regulation, guidance or special condition, and

9. In its discussion of project approval, FTA has amended the instructions on reimbursement procedures to describe the DELPHI eInvoicing System, which has superseded the former ACH system.

The following matters are substantially similar to those included in FTA Circular 6100.1D:

1. Overview,

2. Use of FTA's electronic award and management system. Nevertheless, because FTA is considering adopting a new electronic award and management system to replace its Transportation Electronic Award Management (TEAM) system, FTA has changed references to “TEAM” to the more generic “current electronic award and management system,” and

3. In its discussion of project approval, FTA has made the following changes:

a. The FTA has made edits to the Notification provisions to clarify and to allow flexibility in the means of contacting the recipient, and

b. The FTA has edited the Execution of the FTA Agreement for clarification with no substantive change.

The FTA did not receive any substantive comments on this chapter.

D. Chapter IV: Project Administration

As proposed, FTA has made minor editorial changes to improve clarity throughout Chapter IV, without substantive changes in meaning.

As proposed, FTA has relocated detailed instructions for filing Federal Financial Reports to Appendix A.

The FTA did not receive any substantive comments on this chapter.

E. Chapter V: Financial Management

Chapter V is substantially similar to chapter V in FTA Circular 6100.1D. This chapter provides guidance on the proper use and management of Federal assistance that is unique to Research, Technical Assistance and Training programs. Changes to this chapter include the following:

1. The FTA has substituted “Local Share” for “Non-Federal Match,” and

2. The FTA has provided additional guidance on payment methods. In accordance with DOT guidelines, recipients of Cooperative Agreements must request Federal assistance using Delphi eInvoicing System. All documentation needed to support payment is required to be scanned within the eInvoicing System to assist the FTA Approving Official in authorizing reimbursement to the recipient.

The FTA did not receive any substantive comments on this chapter.

F. Chapter VI: FTA Oversight

While much of the information in this Chapter is substantially similar to that of its predecessor, FTA Circular 6100.1D, FTA made the following changes:

1. The FTA has added a discussion to include the requirement that Financial Management Oversight (FMO) contractors conduct a series of interviews, full transaction reviews, and appropriate substantive tests. It also describes the seven standards for financial management systems: Financial Reporting, Accounting Records, Internal Control, Budget Control, Allowable Costs, Source Documentation, and Cash Management, and

2. The FTA has added information to describe how FTA may perform a review with its project management oversight contractor to develop agreed-upon procedures for oversight of certain aspects of the recipient's financial management issues on a case-by-case basis.

The FTA did not receive any substantive comments on this chapter.

G. Appendices

New Appendix A, “Instructions for Completing Federal Financial Report (FFR).” The information in this Appendix was formerly located in Section IV.3 of FTA Circular 6100.1D. As proposed, the text in Appendix A is substantially similar to that of Section IV.3 of FTA Circular 6100.1D. As proposed, FTA has deleted the former Appendix A of FTA Circular 6100.1D, consisting of a Table of FTA Circulars, because the list of FTA circulars in effect changes frequently and a current list is available on the FTA public Web site.

Relocated Appendix B, “Cost Allocation Plans.” The information in Appendix B is substantially similar to that in Appendix C of FTA Circular 6100.1D. As proposed, FTA has deleted the former Appendix B, “Quarterly Narrative Report Example,” because it did not provide a useful format for a quarterly narrative report. As proposed, we have located this information in section IV.4.d. of this circular and revising it to clarify what should be in the type of comprehensive quarterly narrative report FTA seeks.

Relocated Appendix C, “Request for Advance or Reimbursement (SF-270).” This information is the same as located in Appendix D of FTA Circular 6100.1D.

New Appendix D, “Preparation Instructions for FTA Final Reports.” Appendix D is a near verbatim copy of the preparation instructions on the FTA Public Web site at http://www.fta.dot.gov/documents/Preparation_Instructions_for_FTA_Final_Reports_June_2013.pdf. We have reformatted that document to adapt it as an Appendix (e.g., inserting numbered lists instead of bullets) but did not change the content.

Former Appendix E, “FTA Regional and Metropolitan Contact Information.” As proposed, FTA has deleted this Appendix because this information is subject to change. Current information is available on the FTA public Web site.

The FTA did not receive any substantive comments on these appendices.

Therese W. McMillan,
Acting Administrator.

[FR Doc. 2015-08246 Filed 4-9-15; 8:45 am]

BILLING CODE P